DEPARTMENT OF THE TREASURY

Internal Revenue Service

Open Meeting of the Taxpayer Advocacy Panel's Notices and Correspondence Project Committee

AGENCY: Internal Revenue Service (IRS), Treasury.

ACTION: Notice of meeting cancellation.

SUMMARY: Notice is hereby given of the cancellation of the open meeting of the Taxpayer Advocacy Panel Tax Notices and Correspondence Committee scheduled for Thursday, March 26, 2020 at 8:00 a.m. and Friday, March 27, 2020 at 12:00 p.m. Central Time, which was originally published in the Federal Register on March 9, 2020, (Volume 85, Number 46, Page 13708).

DATES: The meeting will be held Thursday, March 26, 2020 and Friday, March 27, 2020.

FOR FURTHER INFORMATION CONTACT: Robert Rosalia at 1-888-912-1227 or (718) 834-2203.

Dated: March 9, 2020.
Kevin Brown,
Acting Director, Taxpayer Advocacy Panel.

[FR Doc. 2020-05119 Filed 3-12-20; 8:45 am]

BILLING CODE 4830-01-P